DEPARTMENT OF HEALTH AND HUMAN SERVICES

Centers for Disease Control and Prevention

[60Day-08-0692]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Survey of the Knowledge, Attitudes and Practice of Medical and Allied Health Professionals Regarding Fetal Alcohol Exposure—Extension—National Center on Birth Defects and Developmental Disabilities (NCBDDD), Centers for Disease Control and Prevention (CDC).

Background and Brief Description

This data collection is based on the following components of the Public Health Service Act: (1) Act 42 U.S.C. 241, Section 301, which authorizes “research, investigations, experiments, demonstrations, and studies relating to the causes, diagnosis, treatment, control, and prevention of physical and mental diseases and impairments of man.” (2) 42 U.S.C. 247b-4, Section 317 C, which authorizes the activities of the National Center on Birth Defects and Developmental Disabilities. This section was created by Public Law 106-310, also known as “the Children's Health Act of 2000.” This portion of the code has also been amended by Public Law 108-154, which is also known as the “Birth Defects and Developmental Disabilities Prevention Act of 2003.”

Maternal prenatal alcohol use is one of the leading, preventable, causes of birth defects and developmental disabilities. Children exposed to alcohol during fetal development can suffer a wide array of disorders, from subtle changes in I.Q. and behaviors to profound mental retardation. These conditions are known as fetal alcohol spectrum disorders (FASDs). The most severe condition within the spectrum is fetal alcohol syndrome (FAS), which involves disorders of the brain, growth retardation, and facial malformations.

Physicians and other health practitioners play a vital role in diagnosing FAS and in screening women of child-bearing age for alcohol consumption and drinking during pregnancy. In Diekman's, et al. 2000, study of obstetricians and gynecologists, only one-fifth of doctors surveyed reported abstinence to be the safest way to avoid the adverse outcomes associated with fetal alcohol exposure.³ Importantly, 13% of doctors surveyed were not sure of levels of alcohol consumption associated with adverse outcomes.³ One of CDC's multifaceted initiatives in combating alcohol-exposed pregnancies is the education and reeducation of medical and allied health students and practitioners.

In fiscal year 2002, the Centers for Disease Control and Prevention (CDC) received a congressional mandate to develop guidelines for the diagnosis of FAS and other conditions resulting from prenatal alcohol exposure; and to incorporate these guidelines into curricula for medical and allied health students and practitioners [Public Health Service Act Section 317K (247b-12) b and c] (See Appendices A-1, A-2, A-3.)

In response to the second congressional mandate listed above, CDC proposed five national surveys of health providers. In August of 2005, OMB approved these five surveys under control number 0920-0692. The purposes of the surveys are to assess, among various health care provider groups, their knowledge, attitudes, and practices regarding the prevention, identification, and treatment of FASDs. These health care provider groups are pediatricians, obstetrician-gynecologists (OB-GYNs), psychiatrists, family physicians, and allied health professionals. To date, three of the five surveys have yet to be conducted—the survey of allied health professionals, the survey of family physicians, and the survey of pediatricians.

The results of the surveys will help to inform further development of model FASD curricula to disseminate among medical and allied health students and professionals nation wide using a variety of formats including computer interactive learning applications, workshops and conferences, Continuing Medical Education credit courses, and medical and allied health school grand rounds and clerkships. Consistent with OMB's previous terms of clearance, CDC does not expect the results to be generalizable to the larger populations of the professional organizations from which the samples were drawn. Instead, the survey results will provide necessary information to further develop and refine educational materials for medical and allied health students and practitioners and to evaluate their effectiveness. No gifts or compensation will be given to respondents who complete the survey. There is no cost to respondents other than their time.

Estimate of Annualized Burden Hours
Type of respondent | Number of respondents | Number of responses per respondent | Average burden per response (in hours) | Total burden hours
Pediatricians | 900 | 1 | 25/60 | 375
Obstetrician-Gynecologists | 900 | 1 | 25/60 | 375
Psychiatrists | 900 | 1 | 25/60 | 375
Family Physicians | 900 | 1 | 25/60 | 375
Allied Health Professionals | 900 | 1 | 25/60 | 375
Total |  |  |  |

Dated: November 16, 2007.
Marilyn S. Radke,
Reports Clearance Officer, Centers for Disease Control and Prevention.

[FR Doc. E7-22920 Filed 11-23-07; 8:45 am]

BILLING CODE 4163-18-P